DEPARTMENT OF THE INTERIOR

Bureau of Land Management

[A2407-014-004-065516; #O2412-014-004-047181.1; LLNM931000]

Notice of Filing of Plats of Survey and Supplemental Plats; New Mexico; Oklahoma

AGENCY: Bureau of Land Management, Interior.

ACTION: Notice of official filing.

SUMMARY: The plats of survey and the supplemental plats of the following described lands are scheduled to be officially filed 30 days after the date of this notice in the Bureau of Land Management (BLM) New Mexico State Office. The surveys and plats announced in this notice are necessary for the management of the depicted lands.

DATES: If you wish to protest a survey or supplemental plat identified in this notice, you must file a written notice of protest with the BLM State Director for New Mexico by February 17, 2026.

ADDRESSES: Submit written protests to the BLM New Mexico State Office, 301 Dinosaur Trail, Santa Fe, NM 87508. You may obtain a copy of a survey or supplemental plat record from the public room at this office upon required payment. The plats and field notes may be viewed at this location at no cost.

FOR FURTHER INFORMATION CONTACT: Jacob B. Barowsky, Chief Cadastral Surveyor; (505) 761-8903; jbarowsky@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

New Mexico Principal Meridian, New Mexico

The plat representing the dependent resurvey of a portion of Township 30 North, Range 18 West, accepted August 5, 2025, for Group No. 1198 New Mexico. This plat was prepared at the request of the Bureau of Indian Affairs, Navajo Region.

The plat representing the dependent resurvey and survey of a portion of Township 17 South, Range 8 East, accepted August 12, 2025, for Group No. 1207 New Mexico. This plat was prepared at the request of the National Park Service, Intermountain Region, Lands Resource Division.

The Supplemental Plat of Township 20 South, Range 26 East, accepted August 13, 2025, for Group No. 1223 New Mexico. This plat was prepared at the request of the BLM, New Mexico State Office, Minerals Division.

Indian Meridian, Oklahoma

The Supplemental Plat of Township 10 North, Range 27 East, accepted July 31, 2025, for Group No. 247 Oklahoma. This plat was prepared at the request of the Bureau of Indian Affairs, Eastern Oklahoma Region.

The Supplemental Plat of Township 11 North, Range 27 East, accepted August 4, 2025, for Group No. 247 Oklahoma. This plat was prepared at the request of the Bureau of Indian Affairs, Eastern Oklahoma Region.

The Supplemental Plat of Township 11 North, Range 8 West, accepted August 13, 2025, for Group No. 248 Oklahoma. This plat was prepared at the request of the BLM, New Mexico State Office, Minerals Division.

A person or party who wishes to protest a survey must file a written notice of protest by the date specified in the DATES section of this notice with the New Mexico State Director, BLM, at the address listed in the ADDRESSES section of this notice.

A written statement of the reasons in support of the protest, if not filed with the notice of protest, must be filed with the BLM State Director for New Mexico within 30 calendar days after the notice of protest is received.

Before including your address, or other personally identifiable information in your protest, please be aware that your entire protest, including your personally identifiable information, may be made publicly available at any time. While you can ask us in your comment to withhold your personally identifiable information from public review, we cannot guarantee that we will be able to do so.

(Authority: 43 U.S.C. Chap. 3)

Jacob B. Barowsky,
Chief Cadastral Surveyor for NM.

[FR Doc. 2026-00878 Filed 1-15-26; 8:45 am]

BILLING CODE 4331-16-P